ENVIRONMENTAL PROTECTION AGENCY

[EPA-HQ-OPP-2022-0509; FRL-7661-05-OCSPP]

Notice of Approval Status; Certifying Authorities' Amended Plans for Certification of Commercial and Private Applicators of Restricted Use Pesticides; Batch Four

AGENCY: Environmental Protection Agency (EPA).

ACTION: Notice.

SUMMARY: The Environmental Protection Agency (EPA) is announcing its approval or conditional approval of 26 amended certification plans for certifying applicators of Restricted Use Pesticides (RUPs) from the following certifying authorities: Arkansas Department of Agriculture (ADA), Cheyenne River Sioux Tribe's Water, Energy and Environment Committee (CRST-WEEC), Clemson University Division of Regulatory and Public Service Programs, Department of Pesticide Regulation (CUDPR), Florida Department of Agriculture and Consumer Services (FDACS), Guam Environmental Protection Agency (Guam-EPA), Idaho State Department of Agriculture (ISDA), Illinois Department of Agriculture (IDA), Kansas Department of Agriculture (KDA), Louisiana Department of Agriculture and Forestry (LDAF), Maine Department of Agriculture, Conservation and Forestry Board of Pesticides Control (ME BPC), Massachusetts Department of Agricultural Resources (MDAR), Missouri Department of Agriculture (MODA), Montana Department of Agriculture (MTDA), New Mexico Department of Agriculture (NMDA), Ohio Department of Agriculture (ODA), Oklahoma Department of Agriculture, Food, and Forestry (ODAFF), Pennsylvania Department of Agriculture (PDA), the Prairie Band Potawatomi Nation (PBPN), the Santee Sioux Nation (SSN), Tennessee Department of Agriculture (TNDA), Texas Department of Agriculture (TXDA), the Three Affiliated Tribes of the Fort Berthold Reservation's Natural Resources Department (TAT/NRD), Utah Department of Agriculture and Food (UDAF), Virginia Department of Agriculture and Consumer Services (VDACS), the White Earth Band of the Minnesota Chippewa Tribe (WE), and Wisconsin Department of Agriculture, Trade, and Consumer Protection (WDATCP). The 26 plans listed in this batched notice represents the fifth notification announcing the approval of the federal, state, territory, and tribal certification plans that have gone through the review and approval process. The amended plans are consistent with the existing regulatory requirements, including revisions made in 2017 to enhance and improve the competency of certified applicators of RUPs and persons working under their direct supervision. The 2017 regulatory revisions are intended to further reduce potential exposure of RUPs to certified applicators and those working under their direct supervision, other workers, the public, and the environment. Federal, state, territory, and tribal certifying authorities with existing certification plans were required to revise their existing plans to conform with the updated federal standards for RUP applicator certification and receive EPA approval by the established regulatory deadline.

FOR FURTHER INFORMATION CONTACT:

For technical information contact: The designated EPA point of contact for the Certification Plan of interest as listed in Table 1 of Unit I.B.

For general information contact: Carolyn Schroeder, Pesticide Re-Evaluation Division (7508M), Office of Pesticide Programs, Environmental Protection Agency, 1200 Pennsylvania Ave. NW, Washington, DC 20460-0001; telephone number: (202) 566-2376; email address: schroeder.carolyn@epa.gov.

SUPPLEMENTARY INFORMATION:

I. General information

A. Does this action apply to me?

You may be potentially affected by this action if you are a federal, state, territory, or tribal agency who administers a certification program for pesticides applicators. You many also be potentially affected by this action if you are: A registrant of RUP products; a person who applies RUPs, including those under the direct supervision of a certified applicator; a person who relies upon the availability of RUPs; someone who hires a certified applicator to apply an RUP; a pesticide safety educator; or other person who provides pesticide safety training for pesticide applicator certification or recertification. The following list of North American Industrial Classification System (NAICS) codes is not intended to be exhaustive, but rather provides a guide to help readers determine whether this document applies to them. Potentially affected entities may include:

• Agricultural Establishments (Crop Production) (NAICS code 111).

• Nursery and Tree Production (NAICS code 111421).

• Agricultural Pest Control and Pesticide Handling on Farms (NAICS code 115112).

• Crop Advisors (NAICS codes 115112, 541690, 541712).

• Agricultural (Animal) Pest Control (Livestock Spraying) (NAICS code 115210).

• Forestry Pest Control (NAICS code 115310).

• Wood Preservation Pest Control (NAICS code 321114).

• Pesticide Registrants (NAICS code 325320).

• Pesticide Dealers (NAICS codes 424690, 424910, 444220).

• Industrial, Institutional, Structural & Health Related Pest Control (NAICS code 561710).

• Ornamental & Turf, Rights-of-Way Pest Control (NAICS code 561730).

• Environmental Protection Program Administrators (NAICS code 924110).

• Governmental Pest Control Programs (NAICS code 926140).

If you have any questions regarding the applicability of this action to a particular entity, consult the person listed under FOR FURTHER INFORMATION CONTACT.

B. How can I get copies of these documents and other related information?

For assistance in locating documents related to the approved plans identified in this notice, please consult the designated EPA point of contact for the Certification Plan of interest as listed in Table 1 of this unit, or the general contact person listed under FOR FURTHER INFORMATION CONTACT.

Table 1—Designated EPA Point of Contacts for the Certification Plans
EPA region | Certification plan | EPA point of contact | POC phone | Email
Region 1 | MDAR ME BPC | Andrea Szylvian | (617) 918-1198 | szylvian.andreacommat;epa.gov.
Region 3 | PDA VDACS | Camille Lukey | (215) 814-2930 | lukey.camille@epa.gov.
Region 4 | CUDPR FDACS TNDA | Richard Corbett | (404) 562-9008 | corbett.richard@epa.gov.
Region 5 | IDA ODA WDATCP WE | Donald Baumgartner | (312) 886-7835 | baumgartner.donald@epa.gov.
Region 6 | ADA LDAF NMDA ODAFF TXDA | Eric Nystrom | (214) 665-6752 | nystrom.eric@epa.gov.
Region 7 | KDA MODA PBPN SSN | Shawn Hackett | (913) 551-7774 | hackett.shawn@epa.gov.
Region 8 | CRST-WEEC MTDA TAT/NRD UDAF | Kevin Martin | (303) 312-6085 | martin.kevin@epa.gov.
Region 9 | Guam-EPA | Katy Wilcoxen | (415) 947-4205 | wilcoxen.katy@epa.gov.
Region 10 | ISDA | Bethany Plewe | (208) 378-5753 | plewe.bethany@epa.gov.

II. What is the Agency's authority for taking this action?

Section 11 of the Federal Insecticide, Fungicide, Rodenticide Act (FIFRA), 7. U.S.C. 136 et seq., requires certifying authorities to have an EPA-approved certification plan to certify applicators of RUPs. The Certification of Pesticide Applicators (CPA) regulation at 40 CFR part 171 was amended in 2017 (Ref. 1). As a result, federal, state, territory, and tribal certifying authorities with existing certification plans were required to revise their existing certification plans to conform with the updated federal standards for the certification of applicators of RUPs and submit their revisions to EPA by March 2020 for EPA review and approval. The CPA regulation specifies that the existing certification plans remain in place until the revised plans are approved by EPA on or before the regulatory deadline established in 40 CFR 171.5. The Agency has since issued a final rule extending the original deadline for certification plans to comply with the updated federal standards under the 2017 CPA rule to November 4, 2023 (Ref. 2).

III. What action is the Agency taking?

This action gives notice that the following 26 certifying authorities' certification plans submitted to the Agency meet or exceed the standards of 40 CFR part 171: ADA, CRST-WEEC, CUDPR, FDACS, Guam-EPA, IDA, ISDA, KDA, LDAF, MDAR, ME BPC, MODA, MTDA, NMDA, ODA, ODAFF, PBPN, PDA, SSN, TAT/NRD, TNDA, TXDA, UDAF, VDACS, WDATCP, and WE. EPA hereby gives notice that the 26 amended certification plans for certifying applicators of RUPs listed in this document are now approved or conditionally approved plans; the certifying authorities may certify RUP applicators and continue with implementation of the certification plans as outlined in the approved plans.

With this announcement, EPA has approved or conditionally approved 67 out of the 68 federal, state, territory, and tribal certification plans submitted to the Agency prior to the November 2023 regulatory deadline. The 26 plans listed in this batched notice represents the fifth notification announcing the approval of the federal, state, territory, and tribal certification plans that have gone through the review and approval process. EPA also provides information regarding the reviews and approvals of these certification plans, and where copies of these approved plans are available, on its website at https://www.epa.gov/pesticide-worker-safety/certification-standards-pesticide-applicators.

One remaining plan, which is a Tribal-EPA memorandum of agreement (MOA) with the Shoshone-Bannock Tribes of the Fort Hall Reservation (SBT), will not be finalized by the November 4, 2023 deadline. After the November 2023, deadline, the existing MOA will no longer be valid. By default, the Tribe's jurisdiction will be covered by the EPA Plan for the Federal Certification of Applicators of Restricted Use Pesticides within Indian Country (EPA Plan) (Ref. 3) until the MOA is approved. Alternatively, if the Tribe responds in writing that it wants to opt out of the EPA Plan in the interim, they may do so. The Tribe, in any case, may continue to work with EPA to finalize their MOA. EPA will notify the Tribe that they may not continue to issue new or renew certifications under its existing MOA until the modified plan is approved. EPA will work with the Tribe on transitioning to the EPA Plan pending the approval of their MOA, including establishing a transition phase for existing applicators to get certified under the EPA Plan.

III. References

The following is a list of documents that are related to the issuance of this Notice. For assistance in locating these other documents, please consult the person listed under FOR FURTHER INFORMATION CONTACT.

1. EPA. Pesticides; Certification of Pesticide Applicators; Final Rule. Federal Register. 82 FR 952, January 4, 2017 (FRL-9956-70).

2. EPA. Pesticides; Certification of Pesticide Applicators; Further Extension to Expiration Date of Certification Plans; Final Rule. Federal Register. 87 FR 50953, August 19, 2022 (FRL-9134.1-04-OCSPP).

3. EPA. Notice of Approval Status; EPA Plan for the Federal Certification of Applicators Within Indian Country. Federal Register. 88 FR 68604, October 4, 2023 (FRL-7661-04-OCSPP).

Authority: 7 U.S.C. 136-136y.

Dated: November 3, 2023.
Mary Elissa Reaves,
Director, Pesticide Re-Evaluation Division, Office of Pesticide Programs.

[FR Doc. 2023-24745 Filed 11-8-23; 8:45 am]

BILLING CODE 6560-50-P